SMALL BUSINESS ADMINISTRATION

[Disaster Declaration # 20568 and # 20569; TEXAS Disaster Number TX-20023]

Presidential Declaration Amendment of a Major Disaster for Public Assistance Only for the State of Texas

AGENCY: U.S. Small Business Administration.

ACTION: Amendment 1.

SUMMARY: This is an amendment of the Presidential declaration of a major disaster for Public Assistance Only for the State of Texas (FEMA-4798-DR), dated August 21, 2024.

DATES: Issued on September 3, 2024.

Physical Loan Application Deadline Date: October 21, 2024.

Economic Injury (EIDL) Loan Application Deadline Date: May 21, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for Private Non-Profit organizations in the State of TEXAS, dated August 21, 2024, is hereby amended to include the following areas as adversely affected by the disaster.

Incident: Hurricane Beryl.

Incident Period: July 5, 2024 through July 9, 2024.

Primary Counties: Angelina, Calhoun, Fort Bend, Galveston, Hardin, Jackson, Nacogdoches, Newton, Polk, Sabine, San Augustine, Shelby, Trinity, Tyler, Walker, Waller, Washington.

All other information in the original declaration remains unchanged.

(Catalog of Federal Domestic Assistance Number 59008)

Rafaela Monchek,
Deputy Associate Administrator, Office of Disaster Recovery & Resilience.

[FR Doc. 2024-20218 Filed 9-6-24; 8:45 am]

BILLING CODE 8026-09-P